DEPARTMENT OF THE INTERIOR

Bureau of Land Management

[NV-010-07-1020PH]

Notice Public Meetings: Northeastern Great Basin Resource Advisory Council

AGENCY: Bureau of Land Management, Interior

ACTION: Notice of fiscal year 2007 meetings locations and times for the Northeastern Great Basin Resource Advisory Council (Nevada).

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below. Topics for discussion at each meeting will include, but are not limited to: January 18, 2007 (Battle Mountain, Nevada)—Fire Grazing Closures, Vegetation Management, Off-Highway Vehicle Trails; March 15, 2007 (Ely, Nevada)—Grazing Permit Renewals, Mining/Energy Permitting Process, Fire Pre-Suppression Management; May 10 & 11, 2007 (Elko, Nevada)—Range Tour, NEPA/CEQ Training, Minerals activities update; and July 26 & 27, 2007 (Eureka, Nevada)—Tour of Bald Mountain Mine, Rights-of-Way Public Involvement, and Range update. Managers' reports of field office activities will be given at each meeting. The council may raise other topics at any of the three planned meetings.

Dates & Times: The RAC will meet three or four times in Fiscal Year 2007: On January 18, 2007 at the BLM Battle Mountain Field Office, 50 Bastian Road, Battle Mountain, Nevada; on March 15 at the BLM Ely Field Office at 702 North Industrial Way, Ely, Nevada; on May 10 & 11, 2007 at the BLM Elko Field Office, 3900 East Idaho Street, Elko, Nevada; and on July 26 & 27, 2007 at the Eureka Opera House, 31 South Main, Eureka, Nevada. All meetings are open to the public. Each meeting will last from 8 a.m. to 4 p.m. and will include a general public comment period, where the public may submit oral or written comments to the RAC. Each public comment period will begin at approximately 1 p.m. unless otherwise listed in each specific, final meeting agenda.

Final detailed agendas, with any additions/corrections to agenda topics, locations, field trips and meeting times, will be sent to local and regional media sources at least 14 days before each meeting, and hard copies can also be mailed or sent via FAX. Individuals who need special assistance such as sign language interpretation or other reasonable accommodations, or who wish a hard copy of each agenda, should contact Mike Brown, Elko Field Office, 3900 East Idaho Street, Elko, Nevada 89801, telephone (775) 753-0386 no later than 10 days prior to each meeting.

FOR FURTHER INFORMATION CONTACT: Mike Brown, Public Affairs Officer, Elko Field Office, 3900 E. Idaho Street, Elko, NV 89801. Telephone: (775) 753-0386. E-mail: mbrown@nv.blm.gov.

SUPPLEMENTARY INFORMATION: The 15-member Council advises the Secretary of the Interior, through the Bureau of Land Management (BLM), on a variety of planning and management issues associated with public land management in Nevada. All meetings are open to the public. The public may present written comments to the Northeastern Great Basin Resource Advisory Council.

November 9, 2006.
Susan Elliott,
Acting Associate Field Office Manager.

[FR Doc. E6-19375 Filed 11-15-06; 8:45 am]

BILLING CODE 4310-HC-P